DEPARTMENT OF DEFENSE

Office of the Secretary

[Docket ID: DOD-2011-OS-0006]

Privacy Act of 1974; System of Records

AGENCY: Office of the Secretary of Defense, DoD.

ACTION: Notice to Add a System of Records.

SUMMARY: The Office of the Secretary of Defense proposes to add a system of records to its inventory of record systems subject to the Privacy Act of 1974 (5 U.S.C. 552a), as amended.

DATES: This proposed action would be effective without further notice on February 18, 2011 unless comments are received which result in a contrary determination.

ADDRESSES: You may submit comments, identified by docket number and/Regulatory Information Number (RIN) and title, by any of the following methods:

• Federal Rulemaking Portal: http://www.regulations.gov Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or the Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on January 7, 2011 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 11, 2011.
Morgan F. Park,
Alternate OSD Federal Register Liaison Officer, Department of Defense.

DA&M 01

System name:

Civil Liberties Program Case Management System.

System Location:

Defense Privacy and Civil Liberties Office, 1901 S. Bell Street, Suite 920, Arlington, VA 22202-4512.

Records are maintained by offices within the Office of the Secretary of Defense (OSD) and Joint Staff (JS); for a complete list of these offices contact the system manager.

Categories of individuals covered by the system:

Individuals who submit allegations of civil liberties violations by the DoD, its civilian employees, members of the Military Services, DoD contractors, or others acting under the authority of the DoD. Individuals alleged and/or identified to be involved in civil liberties violations.

Categories of records in the system:

May include full names, home or work addresses, home or work telephone numbers, e-mail addresses, Military Service or DoD component involved, and case number. Also contains complaints, comments, inquiries, investigative notes and memoranda, correspondence, supporting documents, material, and reports relating to the allegation, investigation, or redress of alleged civil liberties violations.

Authority for maintenance of the system:

10 U.S.C. 113, Secretary of Defense; 42 U.S.C. 2000ee-1, Privacy and Civil Liberties Officers.

Purpose(s):

To receive, log and track the processing of allegations of civil liberties violations by the DoD, its civilian employees, members of the Military Services, DoD contractors, or others acting under the authority of the DoD and document the review, investigation, and redress provided. Records may also be used as a management tool for statistical analysis, tracking, reporting, evaluating program effectiveness and conducting research.

Routine uses of these records maintained in the system, including categories of users and the purposes of such uses:

In addition to those disclosures generally permitted under 5 U.S.C. 552a(b) of the Privacy Act of 1974, the records contained therein may specifically be disclosed outside the DoD as a routine use pursuant to 5 U.S.C. 552a(b)(3) as follows:

To the Office of Management and Budget (OMB), the Department of Justice (DOJ), or the Office of Special Counsel (OSC), to obtain advice regarding statutory and other requirements related to civil liberties.

The DoD `Blanket Routine Uses' set forth at the beginning of the OSD's compilation of systems of records notices also apply to this system.

Policies and practices for storing, retrieving, accessing, retaining, and disposing of records in the system:

Storage:

Paper records and electronic storage media.

Retrievability:

Individuals submitting allegations or complaints: by full name, home or work address, home or work telephone numbers, e-mail addresses, Military Service or DoD component involved.

Individuals alleged and/or identified to be involved in civil liberties violations: by name and DoD component involved.

Safeguards:

Records are stored in secure facilities that are locked when not attended. Electronic records are password-protected and common access card (CAC) enabled. All personnel with access receive Privacy Act and Information Assurance training prior to gaining initial access and annually thereafter.

Retention and disposal:

Disposition pending (treat records as permanent until the National Archives and Records Administration has approved the retention and disposition schedule).

System manager(s) and address:

Director, Defense Privacy and Civil Liberties Office, 1901 S. Bell Street, Suite 920, Arlington, VA 22202-4512.

Notification procedure:

Individuals seeking to determine if information about themselves is contained in this system should address written inquiries to the Director, Defense Privacy and Civil Liberties Office, 1901 S. Bell Street, Suite 920, Arlington, VA 22202-4512.

For verification purposes, the requestor should provide his/her full name, home or work address, home or work telephone number, e-mail addresses, Military Service or DoD component involved, and case number.

Record access procedure:

Individuals seeking access to information about themselves contained in this system should address written inquiries to the Office of the Secretary of Defense/Joint Staff Freedom of Information Act Requester Service Center, 1155 Defense Pentagon, Washington, DC 20301-1155.

Written requests should include full names, home or work addresses, home or work telephone number, e-mail address, Military Service or DoD component involved and case number, and the name and number of this system of records and be signed.

Contesting record procedure:

The OSD rules for accessing records, for contesting contents and appealing initial agency determinations are published in OSD Administrative Instruction 81; 32 CFR part 311; or may be obtained from the system manager.

Record source categories:

The individual, investigators, and civil liberties staff members.

Exemptions claimed for the system:

Records contained in this System of Records may be exempted from the requirements of subsections (c)(3); (d)(1), (2), (3), and (4); (e)(1) and (e)(4)(G), (H), and (I); and (f) of the Privacy Act pursuant to 5 U.S.C. 552a(k)(1). Records may be exempted from these subsections or, additionally, from the requirements of subsections (c)(4); (e)(2), (3), and (8) of the Privacy Act of 1974 consistent with any exemptions claimed under 5 U.S.C. 552a (j)(2) or (k)(1), (k)(2), or (k)(5) by the originator of the record, provided the reason for the exemption remains valid and necessary.

An exemption rule for this system has been promulgated in accordance with the requirements of 5 U.S.C. 553(b)(1), (2), and (3), (c) and (e) and is published at 32 CFR part 311.

[FR Doc. 2011-962 Filed 1-18-11; 8:45 am]

BILLING CODE 5001-06-P